DEPARTMENT OF ENERGY

Federal Energy Regulatory Commission

Docket No. CP24-529-000]

Tennessee Gas Pipeline Company, L.L.C.; Notice of Schedule for the Preparation of an Environmental Assessment for the 507G Line Abandonment Project

On September 30, 2024, Tennessee Gas Pipeline Company, L.L.C. filed an application in Docket No. CP24-529-000 requesting an Authorization pursuant to Section 7(b) of the Natural Gas Act to abandon certain natural gas pipeline facilities. The proposed project is known as the 507G Line Abandonment Project (Project) and would consist of abandonment in-place and by removal of a portion of the 507G-100 Line and the 507G-500 Line.

On October 11, 2024, the Federal Energy Regulatory Commission (Commission or FERC) issued its Notice of Application and Establishing Intervention Deadline (Notice of Application) for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1731681706. 40 CFR 1501.5(c)(4) (2024).

Schedule for Environmental Review

Issuance of EA—April 25, 2025

90-day Federal Authorization Decision Deadline ²—July 24, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would consist of abandonment in-place of approximately 59.6 miles and abandonment by removal at 56 locations, totaling 15.8 miles, of the 16-inch-diameter 507G-100 Line and disconnection and removal of appurtenant facilities at 44 locations. In addition, the Project would involve abandonment in-place of about 7.9 miles and abandonment by removal of about 1.1 miles of the 12-inch-diameter 507G-500 supply lateral pipeline and disconnection and removal of appurtenant facilities at 7 locations. Under Section 2.55(a) of the Commission's regulations, Tennessee intends to relocate an existing pigging facility.³

³ A “pig” is a tool that the pipeline company inserts into and pushes through the pipeline for cleaning the pipeline, conducting internal inspections, or other purposes.

Background

On November 7, 2024, the Commission issued a Notice of Scoping Period Requesting Comments on Environmental Issues for the Proposed 507G Line Abandonment Project (Notice of Scoping). The Notice of Scoping was sent to affected landowners; Federal, State, and local government agencies; elected officials; environmental and public interest groups; Native American tribes; other interested parties; and local libraries and newspapers. The Commission received comments from the West St. Mary Port Harbor and Terminal District; Josephine Heinen Wetlands, LLC; and Don Caffery, representing M.A. Patout & Son Limited, L.L.C., Sterling Sugars, L.L.C., D.T. Caffery, L.L.C., and several property owners in their individual capacity, indicating a preference that pipeline segments on their property be abandoned by removal rather than in-place. In addition, the Commission received comments from Louisiana Department of Wildlife and Fisheries regarding burial depth and potential for exposures in navigable waterways, and the Louisiana Ecological Services Office providing instructions for their online screening tool for listed species. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-529), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 27, 2024.
Debbie-Anne A. Reese,
Secretary.

[FR Doc. 2024-28408 Filed 12-3-24; 8:45 am]

BILLING CODE 6717-01-P